DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Office of Federal Contract Compliance Programs Recordkeeping and Reporting Requirements, Supply and Service. A copy of the proposed information collection request can be obtained by contacting the office listed below in the addresses section of this notice.

DATES: Written comments must be submitted to the office listed in the addresses section below on or before September 19, 2005.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION: I. Background: The Office of Federal Contract Compliance Programs (OFCCP) is responsible for the administration of three equal opportunity programs prohibiting employment discrimination and requiring affirmative action. The OFCCP administers Executive Order 11246, as amended; Section 503 of the Rehabilitation Act of 1973, as amended; and the affirmative action provisions of the Vietnam Era Veterans' Readjustment Assistance Act of 1974, as amended (VEVRAA), 38 U.S.C. 4212. The regulations implementing the Executive Order program are found at 41 CFR parts 60-1, 60-2, 60-3, 60-4, 60-20, 60-30, 60-40, and 60-50. The regulations implementing Section 503 are published at 41 CFR part 60-741. The regulations implementing VEVRAA are found at 41 CFR part 60-250. The regulations require contractors to develop and maintain Affirmative Action Programs (AAP). OFCCP reviews these AAPs through its compliance evaluation process. The Supply and Service Scheduling Letter provides the contractor notice of its selection for a compliance evaluation and requests the submission of its Affirmative Action Programs and supporting documentation. The supporting documentation includes compensation data (Itemized Listing question number 11). OFCCP uses the Item 11 data purely to determine whether OFCCP should investigate a contractor's compensation practices further, as a means of targeting and allocating the agency's investigative resources. OFCCP is not using Item 11 data to make any kind of determination of whether a violation has occurred. OFCCP only determines that a violation has occurred based on careful investigation of a contractor's compensation practices, which would require examination of much more detailed compensation and personnel data. With respect to assessing whether the contractor has engaged in systemic discrimination (i.e., pattern or practice discrimination under a disparate treatment and/or disparate impact theory), OFCCP conducts multiple regression analyses and/or examines cohorts to assess whether there is a pattern of compensation disparities. In assessing whether to make a finding of systemic compensation discrimination, OFCCP looks not only at statistically-significant compensation disparities, but also at evidence of how the statistical pattern of pay disparities affects individual employees within the contractor's workplace, and other anecdotal evidence. OFCCP has found this approach effective in determining whether systemic compensation discrimination exists, convincing a contractor to conciliate based on OFCCP's findings, and creating a credible threat of enforcement litigation.

In light of this limited use of the Item 11 data, OFCCP concludes that the data, while clearly not sufficient to make a determination of a violation, is and has been effective in allowing OFCCP to allocate the agency's investigative resources.

Further, OFCCP implemented new Active Case Management (ACM) procedures that are used in connection with Desk Audit Reviews and Closures. The goal of ACM is to concentrate agency resources on identifying and remedying cases of systemic discrimination and to quickly and efficiently close out reviews where there are no indicators of systemic discrimination present. Under ACM procedures, only cases producing indicators of potential systemic discrimination (defined as potential affected classes of 10 or more applicants/workers) should proceed beyond the desk audit phase. These ACM procedures limit the amount of burden on Federal contractors to supply additional compensation information during the Desk Audit stage of their review.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: OFCCP seeks a three-year extension to the approval of the Supply and Service Scheduling Letter. There is no change in the substance or method of collection since the last OMB approval. OFCCP revised the burden hour estimates associated with the Supply and Service Scheduling letter based on the responses to a CY 2004 Compensation Questionnaire report submitted to OMB as part of the 2004 Information Collection Request extension.

Type of Review: Extension.

Agency: Employment Standards Administration.

Title: OFCCP Recordkeeping and Reporting Requirements, Supply and Service.

OMB Number: 1215-0072.

Affected Public: Business or other for-profit, not-for-profit institutions.

Total Annual responses: 83,462.

Frequency: Annually.

Average Time per response: 110 hours.

Estimated Total Burden Hours: 9,223,921.

Total Burden Cost (capital/startup): $0.

Total Burden Cost (operating/maintenance): $110,607.

Comments submitted in response to this notice will be summarized and/or included in the request for Office of Management and Budget approval of the information collection request; they will also become a matter of public record.

Dated: July 14, 2005.
Bruce Bohanon,
Chief, Branch of Management Review and Internal Control, Division of Financial Management, Office of Management, Administration and Planning, Employment Standards Administration.

[FR Doc. 05-14383 Filed 7-20-05; 8:45 am]

BILLING CODE 4510-CM-P